DEPARTMENT OF JUSTICE

[OMB Number 1125-0019]

Agency Information Collection Activities; Proposed eCollection eComments Requested; Revision of a Previously Approved Collection; Office of the Chief Administrative Hearing Officer (OCAHO) E-Filing Portal

AGENCY: Executive Office for Immigration Review, Department of Justice.

ACTION: 60-Day notice.

SUMMARY: The Executive Office for Immigration Review, Department of Justice (DOJ), will be submitting the following information collection request to the Office of Management and Budget (OMB) for review and approval in accordance with the Paperwork Reduction Act of 1995.

DATES: Comments are encouraged and will be accepted for 60 days until May 20, 2024.

FOR FURTHER INFORMATION CONTACT: If you have additional comments especially on the estimated public burden or associated response time, suggestions, or need a copy of the proposed information collection instrument with instructions or additional information, please contact Raechel Horowitz, Chief, Immigration Law Division, Office of Policy, Executive Office for Immigration Review, 5107 Leesburg Pike, Suite 2500, Falls Church, VA 22041, telephone: (703) 305-0473, Raechel.Horowitz@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: In order to improve the efficient adjudication of OCAHO cases and reduce the printing, copying, and mailing costs (for both OCAHO and the public) associated with OCAHO cases, OCAHO began developing a web-based electronic case management system in 2018 and continues to develop a web-based electronic filing portal (OCAHO E-Filing Portal) for this system. The OCAHO E-Filing Portal will allow parties to OCAHO cases to file complaints electronically, request electronic access to a case to which they are a party, file motions and requests electronically, and receive service of orders and decisions from OCAHO by email. EOIR obtained initial PRA clearance for this information collection in 2021. The OCAHO E-Filing Portal has never been made available to the public because it is connected to an internal electronic case management system that is still under development. Since initial clearance in 2021, and in tandem with developments to the OCAHO case management system, EOIR has made several changes to the OCAHO E-Filing Portal: EOIR removed data fields determined to be unnecessary for the adjudication of OCAHO cases; EOIR added comment fields to various parts of the Portal for parties to OCAHO proceedings to provide information relevant to proceedings and not otherwise captured by other fields in this information collection; EOIR reordered Portal contents and form fields, and added instructions throughout the Portal, to enhance clarity and user navigation within the Portal; and EOIR added capabilities to enable form fields to auto-populate in the Portal upon upload of a completed PDF version of the EOIR-58, Unfair Immigration-Related Employment Practices Complaint Form (OMB#1125-0016), and the EOIR-30, OCAHO Subpoena Form. EOIR intends these enhancements to reduce costs and resources required during the course of OCAHO proceedings and ensure that only authorized parties and their representatives will have access to information and documents pertaining to their specific cases. This information collection tool is optional and voluntary.

Overview of This Information Collection

1. Type of Information Collection: Revision of a previously approved collection.

2. The Title of the Form/Collection: OCAHO E-Filing Portal.

3. The agency form number, if any, and the applicable component of the Department sponsoring the collection: Form Number: N/A.

4. Affected public who will be asked or required to respond, as well as the obligation to respond: Individuals and households. The obligation to respond is voluntary.

5. An estimate of the total number of respondents and the amount of time estimated for an average respondent to respond: It is estimated that 55 respondents will complete each form within approximately 10 minutes each.

6. An estimate of the total annual burden (in hours) associated with the collection: The estimated total annual burden hours for this collection is 9.35 annual burden hours.

7. An estimate of the total annual cost burden associated with the collection, if applicable: There are no capital or start-up costs associated with this information collection. The estimated public cost is $736.22 if each respondent were to hire an attorney to complete and submit the information collection.

Total Burden Hours
Activity | Number of respondents | Frequency | Total annual responses | Time per response (minutes) | Total annual burden (hours)
Completing the form (individuals) | 55 | 1/annually | 55 | 10 | 9

If additional information is required contact: Darwin Arceo, Department Clearance Officer, United States Department of Justice, Justice Management Division, Policy and Planning Staff, Two Constitution Square, 145 N Street NE, 4W-218, Washington, DC.

Dated: March 15, 2024.
Darwin Arceo,
Department Clearance Officer for PRA, U.S. Department of Justice.

[FR Doc. 2024-05956 Filed 3-20-24; 8:45 am]

BILLING CODE 4410-30-P